DEPARTMENT OF JUSTICE

Parole Commission

Sunshine Act Meeting Federal Register Citation of Previous Announcement: 76 FR 35472, June 17, 2011

PREVIOUSLY ANNOUNCED TIME AND DATE OF THE MEETING: 10 a.m., Tuesday, June 21, 2011.

CHANGES IN THE MEETING: Removal of agenda item 5: Discussion and vote on a final rule on revising guidelines for rating crack cocaine offenses.

CONTACT PERSON FOR MORE INFORMATION: Patricia W. Moore, Staff Assistant to the Chairman, U.S. Parole Commission, 90 K Street, NE., 3rd Floor, Washington, DC 20530, (202) 346-7009.

Dated: June 21, 2011.
Rockne Chickinell,
General Counsel, U.S. Parole Commission.

[FR Doc. 2011-15836 Filed 6-24-11; 8:45 am]

BILLING CODE 4410-31-M